DEPARTMENT OF COMMERCE

National Oceanic and Atmospheric Administration

[RTID 0648 XC905]

Marine Mammals; File No. 26767

AGENCY: National Marine Fisheries Service (NMFS), National Oceanic and Atmospheric Administration (NOAA), Commerce.

ACTION: Notice; receipt of application.

SUMMARY: Notice is hereby given that Sarah Kienle, Ph.D., Baylor University, Waco, TX 76798, has applied in due form for a permit to conduct research on six species of pinnipeds.

DATES: Written, telefaxed, or email comments must be received on or before May 10, 2023.

ADDRESSES: The application and related documents are available for review by selecting “Records Open for Public Comment” from the “Features” box on the Applications and Permits for Protected Species (APPS) home page, https://apps.nmfs.noaa.gov, and then selecting File No. 26767 from the list of available applications. These documents are also available upon written request via email to NMFS.Pr1Comments@noaa.gov.

Written comments on this application should be submitted via email to NMFS.Pr1Comments@noaa.gov. Please include File No. 26767 in the subject line of the email comment.

Those individuals requesting a public hearing should submit a written request via email to NMFS.Pr1Comments@noaa.gov. The request should set forth the specific reasons why a hearing on this application would be appropriate.

FOR FURTHER INFORMATION CONTACT: Sara Young or Carrie Hubard, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to capture and sample six species of Southern Ocean pinnipeds across their geographic range (i.e., Antarctica, subantarctic islands, South America, Australia, New Zealand, Africa). Target species include: leopard seals (Hydrurga leptonyx), Antarctic fur seals (Arctocephalus gazella), crabeater seals (Lobodon carcinophaga), Ross seals (Ommatophoca rossii), southern elephant seals (Mirounga leonina), and Weddell seals (Leptonychotes weddellii). Take activities will consist of one or more of the following methods based on location, sex, and age class of the animal: remote tissue sampling, physical capture, chemical immobilization, and aerial surveys. The applicant may collect morphometrics, tissues (e.g., blood, hair, skin, vibrissae, blubber, milk), and opportunistic samples (e.g., scat, carcasses); mark via flipper tag; collect ultrasound measurements; attach instruments; and measure via photogrammetry. For each species, the applicant proposes to capture and sample 30 adults, harass and sample 30 adults, and capture and sample 30 pups annually for 5 years. An additional 100-500 animals depending on the species may be taken annually by unintentional harassment. The applicant requests three leopard seal unintentional mortalities and two unintentional mortalities for all other species, annually. The applicant also requests authorization to import parts from each species of Antarctic pinniped from the Southern Ocean and other countries where these species are found to the U.S. and to export samples from the U.S. to collaborators abroad for analyses. The permit would be valid for 5 years from the date of issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 5, 2023.
Julia M. Harrison,
Chief, Permits and Conservation Division, Office of Protected Resources, National Marine Fisheries Service.

[FR Doc. 2023-07440 Filed 4-7-23; 8:45 am]

BILLING CODE 3510-22-P